ENVIRONMENTAL PROTECTION AGENCY

40 CFR Part 52

[EPA-R05-OAR-2008-0514; FRL-9294-6]

Approval and Promulgation of Air Quality Implementation Plans; Ohio; Control of Emissions of Organic Materials That Are Not Regulated by Volatile Organic Compound Reasonably Available Control Technology Rules

AGENCY: Environmental Protection Agency (EPA).

ACTION: Proposed rule.

SUMMARY: EPA is proposing to approve, as part of Ohio's State Implementation Plan (SIP) under the Clean Air Act (CAA), a revised rule 3745-21-07, “Control of emissions of organic materials from stationary sources (i.e., emissions that are not regulated by rule 3745-21-09, 3745-21-12, 3745-21-14, 3745-21-15, 3745-21-16, or 3745-21-18 of the Administrative Code).” This rule has been revised because the prior version of 3745-21-07, in Ohio's SIP, has inadequate compliance test methods and definitions. The most significant problem with the prior version is the definition of “photochemically reactive material,” which is different than the definition of “volatile organic compounds” (VOC), upon which EPA's reasonably available control technology (RACT) regulations are based. The revised rule is approvable because it satisfies the requirements for RACT under the CAA.

DATES: Comments must be received on or before May 13, 2011.

ADDRESSES: Submit your comments, identified by Docket ID No. EPA-R05-OAR-2008-0514, by one of the following methods:

• http://www.regulations.gov: Follow the on-line instructions for submitting comments.

• E-mail: mooney.john@epa.gov.

• Fax: (312) 692-2511.

• Mail: John Mooney, Chief, Attainment Planning and Maintenance Section, Air Programs Branch (AR-18J), U.S. Environmental Protection Agency, 77 West Jackson Boulevard, Chicago, Illinois 60604.

• Hand Delivery: John Mooney, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2008-0514. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment.

If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy.

Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Attainment Planning and Maintenance Section, Air Programs Branch (AR-18J), U.S. Environmental Protection Agency, Region 5, 77 West Jackson Boulevard, Chicago, Illinois 60604, (312) 886-6052, Rosenthal.steven@epa.gov.

SUPPLEMENTARY INFORMATION: Throughout this document whenever “we,” “us,” or “our” is used, we mean EPA. This supplementary information section is arranged as follows:

I. What should I consider as I prepare my comments for EPA?

II. What action is EPA taking today and what is the purpose of this action?

III. What are the provisions of OAC 3745-21-07 and are they approvable?

IV. Statutory and Executive Order Reviews

I. What should I consider as I prepare my comments for EPA?

1. Identify the rulemaking by docket number and other identifying information (subject heading, Federal Register date, and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking today and what is the purpose of this action?

EPA is proposing to approve into Ohio's SIP revised rule OAC 3745-21-07, “Control of emissions of organic materials from stationary sources (i.e., emissions that are not regulated by rule 3745-21-09, 3745-21-12, 3745-21-14, 3745-21-15, 3745-21-16, or 3745-21-18 of the Administrative Code).” This rule was submitted by the Ohio Environmental Protection Agency (Ohio EPA) to EPA on April 7, 2008, but was not approvable at that time because both sheet molding compound (SMC) manufacturing operations and new or modified sources after February 18, 2008, were exempted from that version of the rule. However, on November 10, 2010, Ohio EPA submitted to EPA a new Rule 3745-21-25 “Control of VOC emissions from reinforced plastic composites production operations,” which adequately regulates SMC manufacturing operations. Also, on October 25, 2010, Ohio EPA submitted a demonstration that the new 3745-21-07 does not violate the requirements of Section 110(l) of the CAA by not applying to new or modified sources after February 18, 2010. This demonstration is discussed in detail in the following section of this document.

III. What are the provisions of OAC 3745-21-07 and are they approvable?

As discussed below, this rule satisfies RACT requirements and is consistent with the CAA and EPA regulations. A general discussion of the main elements of OAC 3745-21-07 (Control of emissions of organic materials from stationary sources), all of which are approvable, follows:

3745-21-07(A) Applicability

(1)—Reserved.

(2)—Reserved.

(3)—This paragraph states that the rule applies to any source or operation, for which installation commenced prior to the effective date of this rule, and that is specifically identified in tables in paragraphs (K) to (N). This rule shall not apply to VOC emissions from any such source or operation regulated by the VOC rules 3745-21-09, 3745-21-12, 3745-21-13, 3745-21-14, 3745-21-15, 3745-21-15, 3745-21-16, or 3745-21-18. Although this rule does not apply to any sources for which installation commenced after the effective date of the rule (February 18, 2010) or will commence installation in the future, Ohio demonstrated that this will likely not result in an increase in emissions. More specifically, Ohio reviewed all permits issued between January 2008 and September 2010, and determined that, due to other control requirements, no permit would result in an increase in VOC emissions due to paragraphs (A)(3) and (A)(5). Furthermore, Ohio also demonstrated that sufficient reductions are available from oxides of nitrogen (NOX) RACT rule reductions to more than offset any potential future increase in emissions, thereby satisfying the requirements of section 110(l) of the CAA.

In December 2007, Ohio EPA promulgated rules in OAC chapter 3745-110, “NOX RACT.” These rules addressed the control of emissions of NOX from stationary sources such as boilers, combustion turbines, and stationary internal combustion engines. The rules were submitted as part of the attainment strategy in the Cleveland-Akron-Lorain ozone moderate nonattainment area. On September 15, 2009, EPA redesignated the Cleveland-Akron-Lorain metropolitan area to attainment for the 1997 8-hour ozone National Ambient Air Quality Standard. At the same time, EPA approved a waiver from the NOX RACT requirements of section 182(f) of the CAA for this area. Ohio's NOX RACT rules are, therefore, “surplus” and can be used to offset any potential increase in emissions from any future source that would have had more stringent control requirements from the older 3745-21-07 that is currently in the SIP. Ohio obtained 538 tons NOX/year actual (and surplus) emission reductions from the Arcelor-Mittal facility as a result of the installation of low NOX burners in its three reheat furnaces. The requirement for these low NOX burners is permanent and enforceable because the burner controls are needed to comply with OAC 3745-110, Ohio's NOX RACT rule. In the Cleveland-Akron-Lorain area, the ratio of NOX emissions to VOC emissions is 1.36 pounds NOX/pound VOC. Applying this factor, the VOC offset potential for the Arcelor-Mittal facility NOX reductions is 396 tons VOC/year. Even if any reasonably foreseeable source were to be constructed that would have been controlled under the prior version of 3745-21-07 but would be uncontrolled under revised rule 3745-21-07, the difference in emissions would be more than compensated by the surplus emission reduction at the Arcelor-Mittal facility.

(4)—This paragraph voids control requirements contained in a permit-to-install, permit-by-rule, permit-to-operate, or Title V permit if the requirements refer to photochemically reactive materials or the need to determine or document materials as being photochemically reactive materials or any recordkeeping and reporting requirements related to photochemically reactive materials. This paragraph is approvable because it is consistent with the main purpose of this rule revision, namely to eliminate the definition of photochemically reactive material.

(5)—This paragraph states that the rule does not apply to any source for which installation commenced after the effective date of the rule. Please refer to the discussion of (A)(3).

(6)—This paragraph specifies methods of determining compliance.

(6)(a)—This paragraph specifies that the test methods and procedures of paragraphs (A) to (C) of rule 3745-21-10 of Ohio's rules be used to determine emission and control efficiency information for controlled and uncontrolled sources.

(6)(b)—This paragraph allows the use of emission factors approved by EPA.

(6)(c)—This paragraph allows emission test data from similar sources or operations to be used provided where EPA has indicated in writing that the use of such tests is acceptable.

This paragraph is approvable because it specifies EPA-approved test methods, emission factors and test data from similar sources.

(B)-(J)—Reserved.

(K)—This paragraph provides specific control requirements for storage tanks covered by the prior version of 3745-21-07 that is contained in Ohio's SIP.

(K)(1)—Lists emission units subject to the control requirements in (K)(2), which requires that the storage tank be equipped with either a floating pontoon or double-deck type cover that includes closure seals or with a vapor recovery system or control system that reduces the emissions of organic compounds by at least 90 percent by weight.

(K)(3)—Lists emission units, consisting of storage tanks with a capacity of 65,000 gallons or less, subject to the control requirements in (K)(4). (K)(4) requires the use of submerged fill or a vapor recovery system.

This paragraph is approvable because it is consistent with the control requirements in the prior version of 3745-21-07 that is contained in Ohio's SIP.

(L)—This paragraph provides facility specific control requirements for oil-water separators covered by the prior version of 3745-21-07 that is contained in Ohio's SIP. Any subject oil-water separators must be equipped with a solid cover with all openings sealed, a floating pontoon or double deck type cover that includes closure seals, or a vapor recovery system that reduces the emissions of organic compounds by at least ninety percent by weight.

This paragraph is approvable because the control requirements are consistent with the prior version of 3745-21-07 that is contained in Ohio's SIP.

(M)—This paragraph provides facility-specific and general control requirements for emissions from operations using liquid organic materials.

(M)(1)—Lists emission units, covered by the prior version of 3745-21-07 that is contained in Ohio's SIP, that are subject to the control requirements in (M)(2).

(M)(2)—Requires that the emission units listed in (M)(1) be subject to a control system that reduces organic emissions by at least 85 percent.

(M)(3)—Other operations using liquid organic materials.

(M)(3)(a)—This paragraph lists nine conditions in (M)(3)(a)(i) to (M)(3)(a)(ix). Any article, machine, equipment, or other contrivance meeting all of these conditions must comply with the control requirements in (M)(2). These conditions include that the article, machine, equipment, or other contrivance is equipped with control equipment for organic compound emissions and also that it commenced installation prior to the effective date of this rule.

(M)(3)(b)—This paragraph requires the owner or operator of any article, machine, equipment, or other contrivance meeting the specifications of paragraph (M)(3)(a), and not listed in paragraph (M)(1), to notify Ohio EPA, within 90 days after the effective date of this rule, of the need to be specified in paragraph (M)(1)—and therefore be subject to the control requirements in (M)(2).

(M)(3)(c)—This paragraph lists seven conditions and if any of them are met then the control requirements of (M)(2)/(M)(3)(a), and the reporting requirements in (M)(3)(b) shall not apply to any article, machine, equipment, or other contrivance that would otherwise be subject.

(M)(3)(c)(i)—This paragraph exempts any article, machine, equipment, or other contrivance that commenced operation after the effective date of this rule. Please see discussion for (A)(3) and (A)(5).

(M)(3)(c)(ii)—This paragraph exempts any article, machine, equipment, or other contrivance whose uncontrolled potential to emit does not exceed 40 pounds per day of organic compound emissions and allows the uncontrolled potential to emit to be established using physical or operational limitation(s) that are federally enforceable or legally and practically enforceable by the state.

(M)(3)(c)(iii) and (iv)—These paragraphs exempt any article, machine, equipment, or other contrivance that is subject to and complying with an overall control efficiency that is greater than 85 percent.

(M)(3)(c)(v)—This paragraph refers to paragraphs (M)(3)(g) and (M)(4), and is discussed with those paragraphs.

(M)(3)(c)(vi)—This paragraph exempts heatset web offset printing lines that are subject to and complying with a requirement that specifies that their drier(s) be equipped with a control device having either a control efficiency equal to or greater than 90 percent or an outlet concentration of less than 20 parts per million, by volume.

(M)(3)(c)(vii)—This paragraph exempts any article, machine, equipment, or other contrivance that is regulated by and complying with chapter 3745-76, which regulates non-methane organic emissions from existing landfills.

(M)(3)(d), (e) and (f)—These paragraphs provide alternative emission limitations, which have been adequately documented, to those in (M)(2), for specifically identified emission units at the indicated facilities.

(M)(3)(g) and (h)—These paragraphs address SMC operations. Please refer to the discussion of (M)(5)(h).

(M)(4)—Except as provided in paragraph (M)(5) (discussed below) this paragraph requires the owner or operator of each article, machine, equipment, or other contrivance in which any liquid organic material comes into contact with flame or is baked, heat-cured, or heat-polymerized, in the presence of oxygen, and is not specified in paragraph (M)(1) of this rule, to not discharge more than 15 pounds of organic materials into the atmosphere in any one day, nor more than 3 pounds in any hour, unless the organic material emissions have been reduced by at least 85 percent by weight. This paragraph does not apply to any source for which installation commenced on or after the effective date of this rule.

(M)(5)—This paragraph lists several exemptions that are carried over from the prior version of 3745-21-07 that is contained in Ohio's SIP.

(M)(5)(a)—exempts the use of cleanup material from the control requirements in paragraph (M)(2).

(M)(5)(b)—exempts emissions that are not VOCs from the control requirements in (M)(2), (M)(3)(a), and (M)(4).

(M)(5)(c)—This paragraph exempts the use of liquid organic material, from the control requirements in paragraph (M)(2), if the liquid organic material has a boiling point higher than 200 degrees Fahrenheit at 0.5 millimeter mercury absolute pressure, or has an equivalent vapor pressure, unless the liquid organic material is exposed to temperatures exceeding 220 degrees Fahrenheit.

(M)(5)(d)—This paragraph exempts sources from the requirements of paragraph (M)(4) if (i) the volatile content of the material described in (M)(4) consists only of water and liquid organic material, and the liquid organic material comprises no more than 20 percent by volume of the volatile content; or, (ii) the volatile content of the material described in paragraph (M)(4) does not exceed 20 percent by volume.

(M)(5)(e)—This paragraph allows the provisions of paragraphs (M)(2), (M)(3)(d), (M)(3)(e), (M)(3)(f), (M)(3)(g), (M)(3)(h), and (M)(4) to be replaced by an alternative emission limitation if EPA determines that the alternative emission limitation is the lowest emission limitation that the article, machine, equipment, or other contrivance is capable of meeting by the application of control technology that is reasonably available considering technological and economic feasibility.

(M)(5)(f)—This paragraph exempts emissions resulting from the use of any liquid organic materials if those emissions are regulated by rule 3745-21-09, 3745-21-12, 3745-21-13, 3745-21-14,3745-21-15, 3745-21-16, or 3745-21-18.

(M)(5)(g)—Consistent with existing OAC 3745-21-07, this rule exempts sources in Darke, Fairfield, Madison, Perry, Pickaway, Preble, or Union County that are within a facility having the potential to emit not more than 100 tons of organic compounds per calendar year.

(M)(5)(h)—This paragraph exempts sheet molding compound manufacturing operations from the emission limits in (M)(3)(g) provided that the resin delivery system to the doctor box on the SMC manufacturing machine is closed or covered and a nylon containing film is used to enclose the sheet molding compound.

This exemption is acceptable because Ohio has adopted OAC 3745-21-25 for Reinforced Plastics Composites Production Operations, which provides a sufficient level of control (95 percent for subject sources) for SMC machines. OAC 3745-21-25 was proposed for approval on January 27, 2011 (76 FR 4835). Paragraph M is approvable because the control requirements (typically 85 percent or higher) and exemptions are consistent with the prior version of 3745-21-07 that is contained in Ohio's SIP, except as it applies to SMC machines. As stated above, Ohio adopted rule 3745-21-25 for the control of SMC machines. (N) This paragraph requires that smokeless flares be required for the waste gas flare systems that were covered by the prior version of 3745-21-07 that is contained in Ohio's SIP. This paragraph is approvable because it is consistent with the control requirements in the prior version of 3745-21-07 that is contained in Ohio's SIP.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen dioxide, Ozone, Reporting and recordkeeping requirements, Volatile organic compounds.

Dated: March 30, 2011.
Susan Hedman,
Regional Administrator, Region 5.

[FR Doc. 2011-8951 Filed 4-12-11; 8:45 am]

BILLING CODE 6560-50-P